DEPARTMENT OF THE TREASURY

Submission for OMB Review; Comment Request

July 12, 2007.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 20, 2007 to be assured of consideration.

Internal Revenue Service (IRS)

OMB Number: 1545-1056.

Type of Review: Revision.

Title: REG-209020-86 (formerly INTL-61-86) NPRM & Temporary Foreign Tax Credit; Notification and Adjustment Due to Foreign Tax Redeterminations

Description: Section 905(c) requires that a taxpayer notify the Internal Revenue Service of a change in the taxpayer's foreign income tax liability that may affect its foreign tax credit. New 1.905-4T provides rules concerning the time, manner, and contents of such notification. Should the taxpayer fail to notify the IRS, penalties under section 6689 may be imposed. Respondents are U.S. taxpayers that claim a foreign tax credit under section 901, 902, or 960.

Respondents: Individuals or Households.

Estimated Total Burden Hours: 54,000 hours.

OMB Number: 1545-0757.

Type of Review: Extension.

Title: LR-209-76 (Final) Special Lien for Estate Taxes Deferred Under Section 6166 or 6166A.

Description: Section 632A permits the executor of a decedent's estate to elect a lien on section 6166 property in favor of the United States in lieu of a bond or personal liability if an election under section 6166 was made and the executor files an agreement under section 6323A(c).

Respondents: Individuals or households.

Estimated Total Burden Hours: 8,650 hours.

OMB Number: 1545-0026.

Type of Review: Extension.

Title: Return by a U.S. Transferor of Property to a Foreign Corporation.

Form: 926.

Description: U.S. persons file Form 926 to report the transfer of property to a foreign corporation and to report information required by section 367. The IRS uses Form 926 to determine if the gain, if any, must be recognized by the U.S. person.

Respondents: Businesses or other for-profit institutions.

Estimated Total Burden Hours: 9,419 hours.

OMB Number: 1545-0490.

Type of Review: Revision.

Title: (1) Application for Reward for Original Information; (2) Solicitud de Recompensa por Informacion Original (Spanish Version).

Form: 211/211 (SP).

Description: Forms 211/211 (SP) are the official application forms used by persons requesting rewards for submitting information concerning alleged violations of the tax laws by other persons. Such rewards are authorized by IRC 7623. The data is used to determine and pay rewards to those persons who voluntarily submit information.

Respondents: Individuals and households.

Estimated Total Burden Hours: 2,800 hours.

OMB Number: 1545-1156.

Type of Review: Extension.

Title: Records (26 CFR 1.6001-1).

Description: Internal Revenue Code section 6001 requires, in part, that every person liable for tax, or for the collection of that tax, keep such records and comply with such rules and regulations as the Secretary may from time to time prescribe. These records are needed to ensure proper compliance with the Code.

Respondents: Individuals and households.

Estimated Total Burden Hours: 1 hours.

OMB Number: 1545-2057.

Type of Review: Extension.

Title: Form 13614-T, Telephone Excise Tax Refund.

Form: 13614-T.

Description: Form 13614-T, is part of a series of forms related to the Form 13614. The Form 13614-T will be used as the Intake Sheet for individuals who potentially qualify to file a Form 1040EZ-T, Request for Refund of Federal Telephone Excise Tax, to receive their refund.

Respondents: Individuals and households.

Estimated Total Burden Hours: 81,917 hours.

OMB Number: 1545-0015.

Type of Review: Extension.

Title: United States Estate (and Generation-Skipping Transfer) Tax Return.

Form: 706.

Description: Form 706 is used by executors to report and compute the Federal Estate Tax imposed by IRC section 2001 and the Federal GST tax imposed by IRC section 2601. IRS uses the information to enforce these taxes and to verify that the tax has been properly computed.

Respondents: Individuals and households.

Estimated Total Burden Hours: 2,028,430 hours.

OMB Number: 1545-1072.

Type of Review: Extension.

Title: INTL-952-86 (NPRM and Temporary) Allocation and Apportionment of Interest Expense and Certain Other Expenses.

Description: Section 864(e) of the Internal Revenue Code provides rules concerning the allocation and apportionment of interest and certain other expenses to foreign source income for purposes of computing the foreign tax credit limitation. The regulations provide for the affirmative election of either the modified gross income method or the asset method of apportionment in the case of a controlled foreign corporation.

Respondents: Individuals and households.

Estimated Total Burden Hours: 3,750 hours.

OMB Number: 1545-1883.

Type of Review: Extension.

Title: Announcement 2004-38, Election of Alternative Deficit Reduction Contribution.

Description: This announcement describes the election that must be made in order for certain employers to take advantage of the alternative deficit reduction contribution described in section 102 of H.R. 3108.

Respondents: Businesses or other for-profit institutions.

Estimated Total Burden Hours: 800 hours.

OMB Number: 1545-0747.

Type of Review: Extension.

Title: IRA Contribution Information.

Form: 5498.

Description: IRC section 408 (i) requires trustees or issuers of individual retirement arrangements to make such reports to the Internal Revenue Service regarding accounts, contracts, or annuities as is required by regulations. Regulations section 1.408-5 establishes the filing dates and the content of Form 5498 and the information required to be included in annual reports to participants. Section 408(o)(4)(B) requires the taxpayer to use the fair market value of the account in certain computations.

Respondents: Businesses or other for-profits.

Estimated Total Burden Hours: 16,241,629 hours.

OMB Number: 1545-0806.

Type of Review: Extension.

Title: EE-12-78 (Final) Non-Bank Trustees.

Description: IRC section 408(a)(2) permits an institution other than a bank to be the trustee of an individual retirement account (IRA). To do so, an application needs to be filed and various requirements need to be met. IRS uses the information to determine whether an institution qualifies to be a non-bank trustee.

Respondents: Businesses and other for-profit institutions.

Estimated Total Burden Hours: 13 hours.

OMB Number: 1545-1155.

Type of Review: Extension.

Title: PS-74-89 (TD 8282) Final Election of Reduced Research Credit.

Description: These regulations prescribe the procedure for making the election described in section 280C(c)(3) of the Internal Revenue Code. Taxpayers making this election must reduce their section 41(a) research credit, but are not required to reduce their deductions for qualified research expenses, as required in paragraphs (1) and (2) of section 280C(c).

Respondents: Businesses or other for-profit institutions.

Estimated Total Burden Hours: 50 hour.

OMB Number: 1545-0112.

Type of Review: Revision.

Title: Interest Income.

Form: 1099-INT.

Description: This form is used for reporting interest income paid, as required by sections 6049 and 6041 of the Internal Revenue Code. It is used to verify that payees are correctly reporting their income.

Respondents: Businesses or other for-profit institutions.

Estimated Total Burden Hours: 63,223,463 hour.

OMB Number: 1545-2043.

Type of Review: Extension.

Title: Form 8879-B, IRS e-file Signature Authorization for Form 1065-B.

Form: 8879-B.

Description: Tax year 2006 is the first year that filers of Form 1065-B (electing large partnerships) can file electronically. Form 8879-B is used when a personal identification number (PIN) will be used to electronically sign the electronic tax return, and, if applicable, consent to an electric funds withdrawal.

Respondents: Businesses or other for-profit institutions.

Estimated Total Burden Hours: 258 hour.

Clearance Officer: Glenn P. Kirkland (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E7-13967 Filed 7-18-07; 8:45 am]

BILLING CODE 4830-01-P